DEPARTMENT OF ENERGY

Federal Energy Regulatory Commission

[Docket No. ER01-172-000, et al.]

Illinois Power Company, et al.; Electric Rate and Corporate Regulation Filings

October 25, 2000.

Take notice that the following filings have been made with the Commission:

1. Illinois Power Company

[Docket No. ER01-172-000]

Take notice that on October 20, 2000, Illinois Power Company (IP), 500 South 27th Street, Decatur, Illinois 65251-2200, tendered for filing with the Commission Service Agreements for Firm Short-Term Point-To-Point Transmission Service and for Non-Firm Point-To-Point Transmission Service with NRG Power Marketing Inc. (NRG) and with Ameren Energy Marketing Company (Ameren). The Agreements have been entered into pursuant to IP's Open Access Transmission Tariff.

IP requests an effective date of September 25, 2000 for the Agreements with NRG, an effective date of October 2, 2000 for the Agreements with Ameren, and a waiver of the Commission's notice requirement.

IP has served a copy of the filing on NRG and Ameren.

Comment date: November 9, 2000, in accordance with Standard Paragraph E at the end of this notice.

2. Lighthouse Energy Trading Company, Inc.

[Docket No. ER01-174-000]

Take notice that on October 20, 2000, Lighthouse Energy Trading Company, Inc., a South Dakota Corporation, (Lighthouse) petitioned the Commission for acceptance of Lighthouse Rate Schedule FERC No. 1; the granting of certain blanket approvals, including the authority to sell electricity at market-based rates; and the waiver of certain Commission Regulations.

Lighthouse intends to engage in wholesale electric power and energy purchases and sales as a marketer. Lighthouse is not in the business of generating or transmitting electric power.

Comment date: November 9, 2000, in accordance with Standard Paragraph E at the end of this notice.

3. Northrop Grumman Corporation, Grumman Aerospace Corporation

[Docket No. ER01-176-000]

Take notice that on October 20, 2000, Northrop Grumman Corporation and Grumman Aerospace Corporation tendered for filing Notice of Cancellation of Rate Schedules in the above-referenced proceedings.

Comment date: November 9, 2000, in accordance with Standard Paragraph E at the end of this notice.

4. Montana-Dakota Utilities Co., a division of MDU Resources Group, Inc.

[Docket No. ER01-178-000]

Take notice that on October 20, 2000, Montana-Dakota Utilities Co., a division of MDU Resources Group, Inc. (Montana-Dakota), tendered for filing a revised Exhibit H to a certain July 1, 1988 “Contract for Electric Service to Montana-Dakota Utilities Co.”, Contract No. 88-BAO-308, between Montana-Dakota and Western Area Power Administration (Western).

Copies of the filing were served on Western and on the interested utility regulatory agencies.

Comment date: November 9, 2000, in accordance with Standard Paragraph E at the end of this notice.

5. PJM Interconnection, L.L.C.

[Docket No. ER01-179-000]

Take notice that on October 20, 2000, PJM Interconnection, L.L.C. (PJM), on behalf of and at the request of Allegheny Electric Cooperative, Inc. (Allegheny), tendered for filing a revised Schedule 7, Schedule 8, and Attachment H-8 to the PJM Open Access Transmission Tariff.

Copies of this filing were served upon all members of PJM, and the state commissions within the PJM control area.

Comment date: November 9, 2000, in accordance with Standard Paragraph E at the end of this notice.

6. New York Independent System Operator, Inc.

[Docket No. ER01-180-000]

Take notice that on October 20, 2000, the New York Independent System Operator, Inc. (NYISO), acting pursuant to Section 205 of the Federal Power Act, filed a proposed amendment to the NYISO's Market Administration and Control Area Services Tariff. The proposed amendment would extend the duration of bid caps in certain NYISO-administered markets until April 30, 2001.

The NYISO has requested that the amendment become effective on October 29, 2000.

A copy of this filing was served upon all parties in Docket No. ER00-3038-000, Docket Nos. ER00-3591-000 and ER00-3591-001, Docket Nos. ER97-1523-000, OA97-470-000 and ER97-4324-000, not consolidated, and on all other parties who have executed Service Agreements under the NYISO's Open Access Transmission Tariff or Market Administration and Control Area Services Tariff.

Comment date: November 9, 2000, in accordance with Standard Paragraph E at the end of this notice.

7. New York Independent System Operator, Inc.

[Docket No. ER01-181-000]

Take notice that on October 20, 2000, the New York Independent System Operator, Inc. (NYISO), acting pursuant to Section 206 of the Federal Power Act at the direction of the NYISO's independent Board of Directors (NYISO Board), tendered for filing a proposed amendment to the NYISO's Market Administration and Control Area Services Tariff. The proposed amendment would extend the duration of bid caps in certain NYISO-administered markets until such time as the NYISO implements a superior market protective mechanism.

A copy of this filing was served upon all parties in Docket No. ER00-3038-000, Docket Nos. ER00-3591-000 and ER00-3591-001, Docket Nos. ER97-1523-000, OA97-470-000 and ER97-4324-000, not consolidated, and on all other parties who have executed Service Agreements under the NYISO's Open Access Transmission Tariff or Market Administration and Control Area Services Tariff.

Comment date: November 9, 2000, in accordance with Standard Paragraph E at the end of this notice.

8. Mexican Business Trust No. 111076-2, Banco Nacional de México, S.A., Institución de Banca Múltiple, División Fiduciaria, Grupo Financiero, Banamex-Accival (as Trustee under Mexican Business Trust No. 111076-2) Termoeléctrica Peñoles, S. de R.L. de C.V.

[Docket No. EG01-9-000]

Take notice that on October 20, 2000 Mexican Business Trust No. 111076-2 (the Trust); Banco Nacional de México, S.A., Institución de Banca Múltiple, División Fiduciaria, Grupo Financiero Banamex-Accival (the Trustee under Mexican Business Trust No. 111076-2); and Termoeléctrica Peñoles, S. de R.L. de C.V. (TEP and together with the Trust and Trustee, Applicants), Edificio Corporativo BAL, 4 Piso Moliere 222, Colonia Los Morales-Palmas 11540 México, D.F., Mexico, filed with the Federal Energy Regulatory Commission an application for determination of exempt wholesale generator status pursuant to Part 365 of the Commission's regulations.

The Trust states that it is a trust organized under the laws of Mexico, the Trustee, for the purposes of acting as trustee to the Trust only, states that it is a company organized under the laws of Mexico, and TEP states that it is a limited liability company organized under the laws of Méxcio and that they will own and/or operate a nominally rated 260 MW circulating fluidized bed petroleum coke power plant and auxiliary facilities located in Tamuin, San Luis Potosi, Mexico.

Comment date: November 15, 2000, in accordance with Standard Paragraph E at the end of this notice. The Commission will limit its consideration of comments to those that concern the adequacy or accuracy of the application.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27994 Filed 10-31-00; 8:45 am]

BILLING CODE 6717-01-P